DEPARTMENT OF ENERGY

Notice of Orders Issued Under Section 3 of the Natural Gas Act During November 2018

| FE Docket Nos.
CORPUS CHRISTI LIQUEFACTION STAGE III, LLC | 18-78-LNG
CHENIERE MARKETING, LLC AND CORPUS CHRISTI LIQUEFACTION, LLC | 18-137-LNG
PLYMOUTH ROCK ENERGY, LLC | 18-163-NG
EQUINOR NATURAL GAS LLC | 18-160-NG;
| 18-101-LNG; 17-34-LNG
MANSFIELD POWER AND GAS, LLC | 18-167-NG
BP ENERGY COMPANY | 18-69-NG
PORT ARTHUR LNG, LLC | 15-53-LNG;
| 18-162-LNG
ENERDYN INC | 18-164-LNG
UNITED ENERGY TRADING, LLC | 18-165-NG
NS POWER ENERGY MARKETING INC | 18-166-NG
HUSKY MARKETING AND SUPPLY COMPANY | 18-169-NG
GIGO TRANSPORT, INC | 18-172-NG
PLUM ENERGY, LLC | 18-174-LNG
GAS NATURAL PUERTO RICO, INC | 18-175-LNG
NEXTERA ENERGY MARKETING, LLC | 18-176-NG
CALPINE ENERGY SERVICES, L.P | 18-173-NG
ACTIVE ENERGY INC | 18-170-NG
REPSOL OIL & GAS USA, LLC | 18-178-NG
TRANSALTA ENERGY MARKETING CORP | 18-171-NG

AGENCY: Office of Fossil Energy, Department of Energy.

ACTION: Notice of orders.

SUMMARY: The Office of Fossil Energy (FE) of the Department of Energy gives notice that during November 2018, it issued orders granting authority to import and export natural gas, to import and export liquefied natural gas (LNG), amending authorization to export LNG, and vacating prior authorization. These orders are summarized in the attached appendix and may be found on the FE website at https://www.energy.gov/fe/listing-doefe-authorizationsorders-issued-2018-0.

They are also available for inspection and copying in the U.S. Department of Energy (FE-34), Division of Natural Gas Regulation, Office of Regulation, Analysis, and Engagement, Office of Fossil Energy, Docket Room 3E-033, Forrestal Building, 1000 Independence Avenue SW, Washington, DC 20585, (202) 586-9478. The Docket Room is open between the hours of 8:00 a.m. and 4:30 p.m., Monday through Friday, except Federal holidays.

Issued in Washington, DC, on January 28, 2019.
Amy Sweeney,
Director, Division of Natural Gas Regulation.

Appendix

DOE/FE Orders Granting Import/Export Authorizations
4277 | 11/09/18 | 18-78-LNG | Corpus Christi Liquefaction Stage III, LLC | Order 4277 granting long-term Multi-Contract Authority to export LNG by vessel from the Proposed Stage 3 LNG Facilities located at the Corpus Christi LNG Terminal in San Patricio and Nueces Counties, Texas to Free Trade Agreement Nations.
4298 | 11/01/18 | 18-137-LNG | Cheniere Marketing, LLC and Corpus Christi Liquefaction, LLC | Order 4279 granting blanket authority to export LNG by vessel from the Corpus Christi Liquefaction Project located in Corpus Christi, Texas to Non-Free Trade Agreement Nations.
4299 | 11/13/18 | 18-163-NG | Plymouth Rock Energy, LLC | Order 4299 granting blanket authority to import natural gas from Canada.
4300 | 11/13/18 | 18-160-NG; 18-101-LNG; 17-34-NG | Equinor Natural Gas LLC | Order 4300 granting blanket authority to import/export natural gas from/to Canada/Mexico, and to import LNG from various international sources by vessel, and vacating prior blanket authorizations 4236 and 4014.
4301 | 11/13/18 | 18-167-NG | Mansfield Power and Gas, LLC | Order 4301 granting blanket authority to export natural gas to Mexico.
4302 | 11/19/18 | 18-69-LNG | BP Energy Company | Order 4302 granting blanket authority to export previously imported LNG by vessel to Free Trade Agreement Nations and Non-Free Trade Agreement Nations.
3698-A | 11/20/18 | 15-53-LNG; 18-162-LNG | Port Arthur LNG, LLC | Order 3698-A amending long-term Multi-Contract Authority to export LNG by vessel from the Proposed Port Arthur LNG Project in Port Arthur, Texas to Free Trade Agreement Nations.
4303 | 11/26/18 | 18-164-LNG | Enerdyn Inc | Order 4303 granting blanket authority to export LNG to Mexico by truck.
4304 | 11/26/18 | 18-165-NG | United Energy Trading, LLC | Order 4304 granting blanket authority to import/export natural gas from/to Canada.
4305 | 11/27/18 | 18-166-NG | NS Power Energy Marketing Inc | Order 4305 granting blanket authority to import/export natural gas from/to Canada.
4306 | 11/26/18 | 18-169-NG | Husky Marketing and Supply Company | Order 4306 granting blanket authority to import/export natural gas from/to Canada.
4307 | 11/26/18 | 18-172-NG | GIGO Transport, Inc | Order 4307 granting blanket authority to import natural gas from Canada/Mexico and to export natural gas to Mexico.
4308 | 11/26/18 | 18-174-LNG | Plum Energy, LLC | Order 4308 granting blanket authority to import/export LNG from/to Canada/Mexico by truck.
4309 | 11/26/18 | 18-175-LNG | Gas Natural Puerto Rico, Inc | Order 4309 granting blanket authority to import LNG from various international sources by vessel.
4310 | 11/26/18 | 18-176-NG | NextEra Energy Marketing, LLC | Order 4310 granting blanket authority to import/export natural gas from/to Canada.
4311 | 11/30/18 | 18-173-NG | Calpine Energy Services, L.P | Order 4311 granting blanket authority to import/export natural gas from/to Canada, and vacating prior authorization 4281.
4313 | 11/30/18 | 18-170-NG | Active Energy Inc | Order 4313 granting blanket authority to import/export natural gas from/to Canada.
4314 | 11/30/18 | 18-178-NG | Repsol Oil & Gas USA, LLC | Order 4314 granting blanket authority to import/export natural gas from/to Canada.
4315 | 11/30/18 | 18-171-NG | TransAlta Energy Marketing Corp | Order 4315 granting blanket authority to import/export natural gas from/to Canada.

[FR Doc. 2019-00661 Filed 1-31-19; 8:45 am]

BILLING CODE 6450-01-P